CONSUMER PRODUCT SAFETY COMMISSION

[Docket No. CPSC-2012-0030]

Agency Information Collection Activities; Submission for OMB Review; Comment Request; Testing and Recordkeeping Requirements for Carpets and Rugs

AGENCY: Consumer Product Safety Commission.

ACTION: Notice.

SUMMARY: As required by the Paperwork Reduction Act of 1995, the Consumer Product Safety Commission (CPSC or Commission) announces that the Commission has submitted to the Office of Management and Budget (OMB) a request for extension of approval for information collection requirements for manufacturers and importers of carpets and rugs under the Standard for the Surface Flammability of Carpets and Rugs and the Standard for the Surface Flammability of Small Carpets and Rugs. OMB previously approved the collection of information under OMB Control No. 3041-0017. On December 10, 2021, CPSC published a notice in the Federal Register to announce the agency's intention to seek extension of approval of the collection of information. The Commission received no comments. Therefore, by publication of this notice, the Commission announces that CPSC has submitted to the OMB a request for extension of approval of this collection of information.

DATES: Submit written or electronic comments on the collection of information by March 18, 2022.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2012-0030.

FOR FURTHER INFORMATION CONTACT: Cynthia Gillham, Consumer Product Safety Commission, 4330 East-West Highway, Bethesda, MD 20814; (301) 504-7991, or by email to: cgillham@cpsc.gov.

SUPPLEMENTARY INFORMATION: On December 10, 2021, CPSC published a notice in the Federal Register to announce the agency's intention to seek extension of approval of the collection of information. 86 FR 70476. The Commission received no comments. Accordingly, CPSC seeks renewal approval for the following collection of information:

Title: Safety Standard for the Flammability of Carpets and Rugs and Standard for the Flammability of Small Carpets and Rugs.

OMB Number: 3041-0017.

Type of Review: Renewal of collection.

Frequency of Response: On occasion.

Affected Public: Manufacturers and importers of carpets and rugs.

Estimated Number of Respondents: Approximately 120 firms are subject to the information collection requirements under the FFA. An estimated 100 firms issue a general conformity certificate (GCC) or a children's product certificate (CPC). In addition, an estimated 20 firms elect to issue a guaranty of compliance with the FFA. Staff estimates that the average firm issuing a GCC, CPC, or guaranty under the FFA is required to conduct, on average, 100 tests per year, although the actual number of tests required by a given firm may vary, depending upon the number of carpet styles and the annual production volume.

Estimated Time per Response: For firms issuing a GCC or CPC, staff estimates that the time to conduct each test is 2.0 hours, including the time required to establish and maintain the test records. For firms issuing a guaranty of compliance, staff estimates that the time to conduct each test is 2.5 hours, including the time required to establish and maintain the test records.

Total Estimated Annual Burden: Staff estimates the total annualized burden to respondents to be 25,000 hours (20,000 hours for firms that issue a GCC/CPC plus 5,000 hours for firms that issue a guaranty of compliance).

Total Estimated Annual Cost to Respondents: The total annualized costs to all respondents for the hour burden for collection of information is estimated to be as high as $1,557,750 using a mean hourly employer cost-per-hour-worked of $62.31 (Bureau of Labor Statistics: Total compensation rates for management, professional, and related occupations, June 2021) (25,000 hours × $62.31).

General Description of Collection: The Standard for the Surface Flammability of Carpets and Rugs (16 CFR part 1630) and the Standard for the Surface Flammability of Small Carpets and Rugs (16 CFR part 1631) establish requirements to reduce the flammability of carpets and rugs. The standards' provisions include requirements for testing and recordkeeping for manufacturers and importers who furnish guaranties subject to the carpet and rug flammability standards. Separate from the guaranties, the Consumer Product Safety Improvement Act of 2008 (CPSIA) established product certification requirements for applicable consumer product safety standards and rules. 15 U.S.C. 2063. Manufacturers and importers of carpets and rugs intended for general use must certify in a GCC that the product complies with the applicable standards based on testing or a reasonable testing program. Manufacturers and importers of children's carpets and rugs must certify in a CPC that the product complies with the applicable standards based on testing by a CPSC accredited third-party conformity assessment body.

Alberta E. Mills,
Secretary, Consumer Product Safety Commission.

[FR Doc. 2022-03323 Filed 2-15-22; 8:45 am]

BILLING CODE 6355-01-P